DEPARTMENT OF TRANSPORTATION

Federal Motor Carrier Safety Administration

[Docket No. FMCSA-2024-0063]

Commercial Driver's License: Covenant Transport Inc. and Landair Transport Inc. jointly d/b/a Covenant Logistics; Application for Exemption

AGENCY: Federal Motor Carrier Safety Administration (FMCSA), Department of Transportation (DOT).

ACTION: Notice of correction.

SUMMARY: FMCSA corrects the notice published in the Federal Register on May 23, 2024, requesting comments on the application for exemption submitted by Covenant Transport Inc. and Landair Transport Inc., jointly doing business as Covenant Logistics. The notice contained two errors regarding the approximate number of drivers hired and number of drivers covered by the proposed exemption, which the Agency now corrects.

FOR FURTHER INFORMATION CONTACT: Ms. Pearlie Robinson, Driver and Carrier Operations Division; Office of Carrier, Driver and Vehicle Safety Standards, FMCSA; (202) 366-4225; or pearlie.robinson@dot.gov. If you have questions on viewing or submitting material to the docket, contact Dockets Operations at (202) 366-9826.

SUPPLEMENTARY INFORMATION: The original notice of application and request for comments, published on May 23, 2024, at 89 FR 45732, contains on page 45733 the following two sentences “On an annual basis, it hires approximately 1,200 new drivers each year through driver training schools. Covenant Logistics estimates that approximately 2,000 drivers annually would operate CMVs under the requested exemption.” FMCSA is correcting these sentences to read: “On an annual basis, it hires approximately 2,400 new drivers each year through driver training schools. Covenant Logistics estimates that approximately 4,000 drivers annually would operate CMVs under the requested exemption.”

Larry W. Minor,
Associate Administrator for Policy.

[FR Doc. 2024-11868 Filed 5-29-24; 8:45 am]

BILLING CODE 4910-EX-P